ENVIRONMENTAL PROTECTION AGENCY

[FRL-9534-2]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses To Agency Clearance Requests

OMB Approvals

EPA ICR Number 1981.05; Distribution of Offsite Consequence Analysis Information under Section 112(r); 40 CFR part 1400; was approved on 06/12/2013; OMB Number 2050-0172; expires on 06/30/2016; Approved without change.

EPA ICR Number 1157.10; NSPS for Flexible Vinyl and Urethane Coating and Printing; 40 CFR part 60 subparts A and FFF; was approved on 06/12/2013; OMB Number 2060-0073; expires on 06/30/2016; Approved without change.

EPA ICR Number 1160.12; NSPS/NESHAP for Wool Fiberglass Insulation Manufacturing Plants; 40 CFR part 60 subparts A, NNN and PPP; was approved on 06/25/2013; OMB Number 2060-0114; expires on 06/30/2016; Approved without change.

Short Term Extensions

EPA ICR Number 0794.12; Notification of Substantial Risk of Injury to Health and the Environment under TSCA Sec. 8(e); OMB Number 2070-0046; OMB granted a short term extension of the expiration date to 09/30/2013 on 06/20/2013.

John Moses,
Director, Collections Strategies Division.

[FR Doc. 2013-16637 Filed 7-10-13; 8:45 am]

BILLING CODE 6560-50-P